DEPARTMENT OF VETERANS AFFAIRS

[OMB Control No. 2900-New (NSV)]

Agency Information Collection (National Survey of Veterans, Active Duty Service Members, Activated National Guard and Reserve Members, Family Members and Survivors) Activities Under OMB Review

AGENCY: Office of Policy and Planning, Department of Veterans Affairs.

ACTION: Notice.

SUMMARY: In compliance with the Paperwork Reduction Act (PRA) of 1995 (44 U.S.C. 3501-3521), this notice announces that the Office of Policy and Planning (OPP), Department of Veterans Affairs, has submitted the collection of information as abstracted below to the Office of Management and Budget (OMB) for review and comment. The PRA submission describes the nature of the information collection and its expected cost and burden; it includes the actual data collection instrument.

DATES: Comments must be submitted on or before July 1, 2009.

ADDRESSES: Submit written comments on the collection of information through http://www.Regulations.gov; or to VA's OMB Desk Officer, Office of Information and Regulatory Affairs, New Executive Office Building, Room 10235, Washington, DC 20503, (202) 395-7316. Please refer to “OMB Control 2900-New (NSV)” in any correspondence.

FOR FURTHER INFORMATION CONTACT: Denise McLamb, Enterprise Records Service (005R1B), Department of Veterans Affairs, 810 Vermont Avenue, NW., Washington, DC 20420, (202) 461-7485, FAX (202) 273-0443 or e-mail: denise.mclamb@.va.gov. Please refer to “OMB Control No. 2900-New (NSV).

SUPPLEMENTARY INFORMATION: Title: National Survey of Veterans, Active Duty Service Members, Activated National Guard and Reserve Members, Family Members and Survivors (NSV).

OMB Control Number: 2900-New (NSV).

Type of Review: New collection.

Abstract: The NSV will be conducted to obtain needed information that is not available in VA administrative files. The survey will be used to help VA improve services for beneficiaries and their families. For the first time, the NSV will include active duty service members; activated National Guard and Reserves; and family members and survivors in addition to veterans. The scope of the survey will be expanded to address the requirements of Public Law 108-454, section 805, to assess awareness of veterans' benefits and services. The NSV provides VA, Congress, stakeholders, and the public more accurate descriptions and assessments of the characteristics of the veteran population to evaluate existing programs and policies, to establish baseline measures before planning and implementing new programs and policies, and to monitor progress of programs and policies and their impacts on the population. The NSV will provide information to support VA policy, planning, and quality improvement decisions.

An agency may not conduct or sponsor, and a person is not required to respond to a collection of information unless it displays a currently valid OMB control number. The Federal Register Notice with a 60-day comment period soliciting comments on this collection of information was published on February 10, 2009, at page 6696.

Affected Public: Individuals or households.

Estimated Total Annual Burden: 9,053 hours.

Estimated Average Burden Per Respondent: 10 minutes.

Frequency of Response: On occasion.

Estimated Number of Respondents: 54,316.

Dated: May 22, 2009.
By direction of the Secretary.
Denise McLamb,
Program Analyst, Enterprise Records Service.

[FR Doc. E9-12505 Filed 5-29-09; 8:45 am]

BILLING CODE 8320-01-P